DEPARTMENT OF INTERIOR

NATIONAL PARK SERVICE

[NPS-AKR-DENA-10132; 9833-P807-579]

Final Environmental Impact Statement on the Denali Park Road Vehicle Management Plan, Denali National Park and Preserve

AGENCY: National Park Service, Interior.

ACTION: Notice of Availability of the Final Environmental Impact Statement for the Denali Park Road Vehicle Management Plan.

SUMMARY: Pursuant to § 102(2)(C) the National Environmental Policy Act (NEPA) of 1969, 42 U.S.C. 4332(2)(C), the National Park Service (NPS) announces the availability of the Final Environmental Impact Statement for the Denali Park Road Vehicle Management Plan (Plan/FEIS), for Denali National Park and Preserve, Alaska. The Plan/FEIS evaluates the environmental impacts of three action alternatives including a preferred alternative. A no action alternative is also evaluated. The restricted section of the Denali Park Road begins at the west end of the Savage River Bridge (mile 14.8) and continues to the former Mt. McKinley National Park boundary north of Wonder Lake (mile 87.9).

ADDRESSES: The Plan/FEIS is available in electronic format online at the NPS Planning, Environmental and Public Comment Web site at http://parkplanning.nps.gov/dena. Hard copies and compact discs of the Plan/FEIS are available on request by contacting: Paul R. Anderson, Superintendent, Denali National Park and Preserve, P.O. Box 9, Denali Park, Alaska 99755. Telephone: 907-683-2294.

SUPPLEMENTARY INFORMATION: The purpose of the FEIS is to evaluate the impacts of the alternatives for managing vehicle use along the Denali Park Road. Since the mid-1920s, visitors have been able to travel the park road on buses operated by the park concessioner. Starting in 1972, when private vehicle traffic was restricted beyond mile 15 of the road, a shuttle bus service was added for visitor transportation. The present approach for managing vehicles on the park road is based on the park's 1986 general management plan, which established a seasonal limit of 10, 512 vehicle permits beyond mile 15 between approximately Memorial Day and a week after Labor Day [36 CFR 13.932]. It has served well as a way to manage vehicle use, while providing high quality visitor opportunities to see wildlife in natural habitats and to access the park's wilderness. However, visitation to Denali National Park and Preserve is expected to continue to increase, and with it demand for visits along the park road.

A 90-day public comment period on the Draft EIS (DEIS) began on July 29, 2011. Public meetings were held in Anchorage, Fairbanks, and Denali National Park, Alaska. The NPS received 324 comment letters from various agencies, organizations and individuals. In response to public comment, the FEIS describes and analyzes a fourth alternative (NPS Preferred Alternative) that combines elements of Alternatives A, B and C from the DEIS. The FEIS presents responses to substantive comments in Chapter 5.

The Plan/FEIS analyzes the following four alternatives: the No Action Alternative (Alternative A), Maximizing Visitor Opportunities (Alternative B), Maximizing Visitor Opportunities (Alternative C), and the NPS Preferred Alternative (Alternative D).

Alternative A: (No Action): This alternative would continue current management of vehicle use on the park road. In addition to a seasonal limit of 10,512 vehicles past mile 15, there would continue to be specific seasonal and daily limits to tour buses, shuttle buses, inholder traffic, professional photographer vehicles, NPS administrative vehicles and other categories of vehicles.

Alternative B: This alternative would use an adaptive management framework for vehicle use based on indicators and standards for visitor experiences and resource protection. While adhering to these standards, management would promote maximized seating on all transit and tour vehicles to offer the largest number of visitors the opportunity to travel the park road. This adaptive management framework would include options for reducing or scheduling non-bus traffic to allow for additional visitor use on transit and tour vehicles.

Alternative C: This alternative would use an adaptive management framework for vehicle use based on indicators and standards for visitor experiences and resource protection. While adhering to these standards, management would promote a wide variety of opportunities that would include brief experiences in the park's entrance area, short visits along segments of the park road, special interest tours, and multi-day experiences in the park's backcountry. This adaptive management framework would include options for reducing or scheduling non-bus traffic to allow for additional visitor use on transit and tour vehicles.

Alternative D: The NPS preferred alternative, with an adaptive manage framework, would provide a high quality visitor experience; protect wilderness resource values, scenic values, wildlife, and other park resources; and maintain the unique character of the park road. While managing to meet standards for desired conditions, a maximum daily capacity would also be used to protect park resources and values. The daily capacity would apply to all vehicles traveling west of the Savage River check station (mile 15).

FOR FURTHER INFORMATION CONTACT: Paul R. Anderson, Superintendent, Denali National Park and Preserve, P.O. Box 9, Denali Park, Alaska 99755. Telephone: 907-683-2294.

Sue E. Masica,
Regional Director, Alaska.

[FR Doc. 2012-16070 Filed 6-29-12; 8:45 am]

BILLING CODE 4310-PF-P